DEPARTMENT OF DEFENSE

Department of the Navy

Notice of Intent To Grant Exclusive Patent License; Hanson Technologies, Inc.

AGENCY: Department of the Navy, DoD.

ACTION: Notice.

SUMMARY: The Department of the Navy hereby gives notice of its intent to grant to Hanson Technologies, Inc., a revocable, nonassignable, exclusive license in the field of detection of pathogens, toxins, prions, and allergens in food for human consumption, and detection of pathogens, toxins, prions, and allergens in food processing for human consumption, including wash liquids and waste products of said process in the United States and certain foreign countries, the Government-owned invention described in U.S. Patent No. 6,192,168: REFLECTIVELY COATED OPTICAL WAVEGUIDE AND FLUIDICS CELL INTEGRATION, Navy Case No. 79,631 and any continuations, divisionals, or re-issues thereof.

DATES: Anyone wishing to object to the grant of this license must file written objections along with supporting evidence, if any, not later than March 12, 2007.

ADDRESSES: Written objections are to be filed with the Naval Research Laboratory, Code 1004, 4555 Overlook Avenue, SW., Washington, DC 20375-5320.

FOR FURTHER INFORMATION CONTACT: Rita Manak, Head, Technology Transfer Office, NRL Code 1004, 4555 Overlook Avenue, SW., Washington, DC 20375-5320, telephone 202-767-3083. Due to U.S. Postal delays, please fax 202-404-7920, e-mail: rita.manak@nrl.navy.mil or use courier delivery to expedite response.

(Authority: 35 U.S.C. 207, 37 CFR Part 404.)

Dated: 15 February 2007.
M.A. Harvison,
Lieutenant Commander, Judge Advocate General's Corps, U.S. Navy, Federal Register Liaison Officer.

[FR Doc. E7-3104 Filed 2-22-07; 8:45 am]

BILLING CODE 3810-FF-P